SECURITIES AND EXCHANGE COMMISSION

[SEC File No. 270-050, OMB Control No. 3235-0060]

Submission for OMB Review; Comment Request; Extension: Exchange Act Form 8-K

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form 8-K (17 CFR 249.308) is filed by issuers to satisfy their current reporting obligations pursuant to Sections 13 and 15(d) of the Securities Exchange Act of 1934 (15 U.S.C. 78m and 78o(d)) in connection with the occurrence of significant corporate events. The purpose of Form 8-K is to provide investors with prompt disclosure of material information so that investors will be able to make investment and voting decisions better informed and receive information more-timely. We estimate that Form 8-K takes 8.414583 hours per response and is filed by 70,560 responses annually. We estimate that 75% of the 8.414583 hours per response (6.31094 hours) is prepared by the issuer for a total annual reporting burden of 445,300 hours (6.31094 hours per response × 70,560 responses).

An agency may not conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by October 15, 2024 to (i) www.reginfo.gov/public/do/PRAMain and (ii) Austin Gerig, Director/Chief Data Officer, Securities and Exchange Commission, c/o Oluwaseun Ajayi, 100 F Street NE, Washington, DC 20549, or by sending an email to: PRA_Mailbox@sec.gov.

Dated: September 10, 2024.
Vanessa A. Countryman,
Secretary.

[FR Doc. 2024-20846 Filed 9-12-24; 8:45 am]

BILLING CODE 8011-01-P